DEPARTMENT OF TRANSPORTATION

Federal Aviation Administration

Permanent Closure of Diego Jimenez Torres Airport, Fajardo, Puerto Rico

AGENCY: Federal Aviation Administration (FAA), DOT.

ACTION: Notice of permanent closure of Diego Jimenez Torres Airport (X95).

SUMMARY: The Federal Aviation Administration (FAA) received written notice, dated January 21, 2015, from Puerto Rico Ports Authority (PRPA) advising that on April 30, 2015, it will permanently close Diego Jimenez Torres Airport (X95), Fajardo, Puerto Rico; the notice was in excess of 30 days before the closure in accordance with 49 U.S.C. 46319(a). The FAA hereby publishes PRPA's notice of permanent closure Diego Jimenez Torres Airport in accordance with 49 U.S.C. 46319(b).

DATES: The permanent closure of the airport is effective as of April 30, 2015.

FOR FURTHER INFORMATION CONTACT: Parks Preston, Program Manager, Atlanta Airports District Office, 1701 Columbia Ave., Campus Bldg., Suite 2-260, College Park, GA 30337, (404) 305-7149.

SUPPLEMENTARY INFORMATION: On January 21, 2015, PRPA, sponsor of Diego Jimenez Torres Airport (X95), informed the FAA that the Airport will close permanently on April 30, 2015. (See enclosed letter) X95 is a small 94-acre non-towered, general aviation airport. The useful life of the federally funded improvements expired in 2013. FAA recognizes that PRPA is no longer contractually obligated to continue operating this airport. Title 49 United States Code § 46319 requires a public agency (as defined in section 47102) may not permanently close an airport listed in the National Plan of Integrated Airport Systems under section 47103 without providing written notice to the Administrator of the FAA at least 30 days before the date of the closure. The FAA recognizes the letter dated January 21, 2015 from PRPA meets this requirement.

Issued in College Park, Georgia on February 11, 2015.
Larry F. Clark,
Manager, Atlanta Airports District Office, Southern Region.

[FR Doc. 2015-03776 Filed 2-23-15; 8:45 am]

BILLING CODE 4910-13-P